DEPARTMENT OF TRANSPORTATION

Federal Aviation Administration

Notice of Intent To Rule on Application 01-05-C-00-PLB To Impose and Use the Revenue From a Passenger Facility Charge (PFC) at Clinton County Airport, Plattsburgh, New York

AGENCY: Federal Aviation Administration (FAA), DOT.

ACTION: Notice of intent to rule on application.

SUMMARY: The FAA proposes to rule and invites public comment on the application to impose and use the revenue from a PFC at Clinton County Airport under the provisions of the Aviation Safety and Capacity Expansion Act of 1990 (Title IX of the Omnibus Budget Reconciliation Act of 1990) (Pub. L. 101-508) and Part 158 of the Federal Aviation Regulations (14 CFR Part 158).

DATES: Comments must be received on or before September 21, 2001.

ADDRESSES: Comments on this application may be mailed or delivered in triplicate to the FAA at the following address: Federal Aviation Administration, New York Airports District Office, 600 Old Country Road, Suite 446, Garden City, New York 11530.

In addition, one copy of any comments submitted to the FAA must be mailed or delivered to Mr. Ralph Hensel, Airport Manager at the following address: Clinton County Airport, 11 Airport Road, Suite 101, Plattsburgh, New York, 12901.

Air carriers and foreign air carriers may submit copies of written comments previously provided to the County of Clinton under § 158.23 of Part 158.

FOR FURTHER INFORMATION CONTACT: Robert Levine, Airport Engineer, New York Airports District Office, 600 Old Country Road, Garden City, New York 11530, Telephone: (516) 227-3807. The application may be reviewed in person at this same location.

SUPPLEMENTARY INFORMATION: The FAA proposes to rule and invites public comment on the application to impose and use the revenue from a PFC at Clinton County Airport under the provisions of the Aviation Safety and Capacity Expansion Act of 1990 (Title IX of the Omnibus Budget Reconciliation Act of 1990) (Pub. L. 101-508) and Part 158 of the Federal Aviation Regulations (14 CFR part 158).

On August 7, 2001, the FAA determined that the application to impose and use the revenue from a PFC submitted by County of Clinton was substantially complete within the requirements of § 158.25 of part 158. The FAA will approve or disapprove the application, in whole or in part, no later than November 17, 2001.

The following is a brief overview of the application.

PFC Application No.: 01-05-C-00-PLB.

Level of the proposed PFC: $3.00.

Proposed charge effective date: December 1, 2001.

Proposed charge expiration date: March 1, 2005.

Total estimated PFC revenue: $56,500.

Brief description of proposed project(s):

—On Airport Obstruction Removal (Phase I & II).

—Transient Apron Rehabilitation.

—Purchase Runway Sweeper.

—Runway 1-19 & 14-32 Crack Repair.

Class or classes of air carriers which the public agency has requested not be required to collect PFCs: Non-Scheduled/On Demand Operators filing FAA Form 1800-31.

Any person may inspect the application in person at the FAA office listed above under FOR FURTHER INFORMATION CONTACT and at the FAA regional airports office located at: Federal Aviation Administration, Eastern Region, Airports Division, AEA-610, 1 Aviation Plaza, Jamaica, New York 11434-4809.

In addition, any person may, upon request, inspect the application, notice and other documents germane to the application in person at the County of Clinton.

Issued in Garden City, New York on August 13, 2001.
Philip Brito,
Manager, New York Airports District Office, Eastern Region.

[FR Doc. 01-21170 Filed 8-21-01; 8:45 am]

BILLING CODE 4910-13-M